OFFICE OF THE UNITED STATES TRADE REPRESENTATIVE

Determination of Eligibility for Retroactive Duty Treatment Under the Dominican Republic—Central America—United States Free Trade Agreement

AGENCY: Office of the United States Trade Representative.

ACTION: Notice.

SUMMARY: Pursuant to Section 205(b) of the Dominican Republic—Central America—United States Free Trade Agreement Implementation Act (the Act), the United States Trade Representative (USTR) is providing notice of his determination that Honduras and Nicaragua are eligible countries for purposes of retroactive duty treatment as provided in Section 205 of the Act.

EFFECTIVE DATE: April 7, 2006.

ADDRESSES: Inquiries may be mailed, delivered, or faxed to Abiola Heyliger, Director of Textile Trade Policy, Office of the United States Trade Representative, 600 17th Street, NW., Washington, DC 20508, fax number, (202) 395-5639.

FOR FURTHER INFORMATION CONTACT: Abiola Heyliger, Office of the United States Trade Representative, 202-395-3026.

SUPPLEMENTARY INFORMATION: Section 205(a) of the Act (Pub. L. 109-53; 119 Stat. 462, 483; 19 U.S.C. 4034) provides that certain entries of textile or apparel goods of designated eligible countries that are parties to the Dominican Republic—Central America—United States Free Trade Agreement (CAFTA-DR) made on or after January 1, 2004 may be liquidated or reliquidated at the applicable rate of duty for those goods established in the Schedule of the United States to Annex 3.3 of the CAFTA-DR. Section 205(b) of the Act requires the USTR to determine, in accordance with Article 3.20 of the CAFTA-DR, which CAFTA-DR countries are eligible countries for purposes of Section 205(a). Article 3.20 provides that importers may claim retroactive duty treatment for imports of certain textile or apparel goods entered on or after January 1, 2004 and before the entry into force of CAFTA-DR from those CAFTA-DR countries that will provide reciprocal retroactive duty treatment or a benefit for textile or apparel goods that is equivalent to retroactive duty treatment.

Pursuant to Section 205(b) of the Act, I have determined that Honduras and Nicaragua will each provide an equivalent benefit for textile or apparel goods of the United States within the meaning of Article 3.20 of the CAFTA-DR. I therefore determine that Honduras and Nicaragua are eligible countries for purposes of Section 205 of the Act.

Rob Portman,
U.S. Trade Representative.

[FR Doc. E6-5074 Filed 4-6-06; 8:45 am]

BILLING CODE 3190-D2-P